DEPARTMENT OF AGRICULTURE

Animal and Plant Health Inspection Service

[Docket No. APHIS-2008-0040]

National Poultry Improvement Plan; General Conference Committee Meeting and Biennial Conference

AGENCY: Animal and Plant Health Inspection Service, USDA.

ACTION: Notice of meeting.

SUMMARY: We are giving notice of meetings of the General Conference Committee of the National Poultry Improvement Plan and of the Biennial Conference.

DATES: The General Conference Committee will meet on June 5, 2008, from 8 a.m. to 11 a.m. The Biennial Conference will be held on June 6, 2008, from 8 a.m. to 5 p.m., and on June 7, 2008, from 8 a.m. to noon.

ADDRESSES: The meetings will be held at the Portland Marriott at Sable Oaks, 200 Sable Oaks Drive, South Portland, ME.

FOR FURTHER INFORMATION CONTACT: Mr. Andrew R. Rhorer, Senior Coordinator, National Poultry Improvement Plan, VS, APHIS, 1498 Klondike Road, Suite 101, Conyers, GA 30094; (770) 922-3496.

SUPPLEMENTARY INFORMATION: The General Conference Committee (the Committee) of the National Poultry Improvement Plan (NPIP) is the Secretary's Advisory Committee on poultry health. The Committee represents cooperating State agencies and poultry industry members, and serves an essential program function by acting as liaison between the poultry industry and the Department in matters pertaining to poultry health. In addition, the Committee assists the Department in planning, organizing, and conducting the NPIP Biennial Conference.

Topics for discussion at the upcoming meetings include:

1. H5/H7 low pathogenic avian influenza (LPAI) program for commercial layers, broilers, and turkeys;

2. Compartmentalization of notifiable avian influenza free zones;

3. H5/H7 LPAI program for raised-for-release upland gamebird flocks;

4. Evaluation of rapid detection assays for Salmonella; and

5. Evaluation of antigen detection assays for avian influenza.

The meetings will be open to the public. The sessions held on June 6 and 7, 2008, will include delegates to the NPIP Biennial Conference. However, due to time constraints, the public will not be allowed to participate in the discussions during either of the meetings. Written statements on meeting topics may be filed with the Committee before or after the meetings by sending them to the person listed under FOR FURTHER INFORMATION CONTACT. Written statements may also be filed at the meetings. Please refer to Docket No. APHIS-2008-0040 when submitting your statements.

This notice of meeting is given pursuant to section 10 of the Federal Advisory Committee Act. (5 U.S.C. App. 2).

Done in Washington, DC, this 14th day of April 2008.
Kevin Shea,
Acting Administrator, Animal and Plant Health Inspection Service.

[FR Doc. E8-8417 Filed 4-17-08; 8:45 am]

BILLING CODE 3410-34-P